DEPARTMENT OF COMMERCE

International Trade Administration

[Application No. 97-10A03]

Export Trade Certificate of Review

ACTION: Notice of issuance (#97-10A03) of an amended Export Trade Certificate of Review to the Association for the Administration of Rice Quotas, Inc.

SUMMARY: The U.S. Department of Commerce issued an amended Export Trade Certificate of Review to the Association for the Administration of Rice Quotas, Inc. (“AARQ”) on March 11, 2010. The Certificate has been amended ten times. The previous amendment was issued to AARQ on March 31, 2009, and published in the Federal Register on April 10, 2009 (74 FR 16363). The original Certificate for AARQ was issued on January 21, 1998, and published in the Federal Register on January 28, 1998 (63 FR 4220).

FOR FURTHER INFORMATION CONTACT: Joseph E. Flynn, Director, Office of Competition and Economic Analysis, International Trade Administration, by telephone at (202) 482-5131 (this is not a toll-free number) or by e-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2008).

The Office of Competition and Economic Analysis is issuing this notice pursuant to 15 CFR 325.6(b), which requires the Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

AARQ's Export Trade Certificate of Review has been amended to:

1. Add the following companies as new Members of the Certificate within the meaning of section 325.2(1) of the Regulations (15 CFR 325.(1)): ADM Grain Company, Decatur, Illinois (a subsidiary of Archer Daniels Midland Company) and TRC Trading Corporation, Roseville, California (a subsidiary of The Rice Company).

2. Change the listing of the following Members: “American Commodity Company, LLC, Robbins, California” has been amended to read “American Commodity Company, LLC, Williams, California”; “American Rice, Inc., Houston, Texas (a subsidiary of SOS Cuetara USA, Inc.)” has been amended to read “American Rice, Inc., Houston, Texas (a subsidiary of SOS Corporation Alimentaria, SA)”; “Cargill Americas, Inc., and its subsidiary CAI Trading Company LLC, Coral Gables, Florida” has been amended to read “Cargill Americas, Inc. and its subsidiary CAI Trading, LLC, Coral Gables, Florida”; “JFC International Inc., San Francisco, California (a subsidiary of Kikkoman Corp.)” has been amended to read “JFC International Inc., Los Angeles, California (a subsidiary of Kikkoman Corp.)”; and “Nidera, Inc., Stamford, Connecticut (a subsidiary of Nidera Handelscompagnie BV (Netherlands))” has been amended to read “Nidera, Inc., Wilton, Connecticut (a subsidiary of Nidera Handelscompagnie BV (Netherlands)).”

Make corrections to the following Members' listings: “Itochu International Inc., New York, New York (a subsidiary of Itochu Corporation (Japan))” has been amended to read “Itochu International Inc., Portland, Oregon (a subsidiary of Itochu Corporation (Japan))”; and “Nobel Logistics USA Inc., Portland, Oregon” has been amended to read “Noble Logistics USA Inc., Portland, Oregon.” The effective date of the amended certificate is December 11, 2009, the date on which AARQ's application to amend was deemed submitted. A copy of the amended certificate will be kept in the International Trade Administration's Freedom of Information Records Inspection Facility, Room 4001, U.S. Department of Commerce, 14th Street and Constitution Avenue, NW., Washington, DC 20230.

Dated: March 15, 2010.
Joseph E. Flynn,
Director, Office of Competition and Economic Analysis.

[FR Doc. 2010-6658 Filed 3-25-10; 8:45 am]

BILLING CODE 3510-DR-P